DEPARTMENT OF ENERGY

Federal Energy Regulatory Commission

[Project No. 13884-000]

Pennamaquan Tidal Power, LLC; Notice of Preliminary Permit Application Accepted for Filing and Soliciting Comments, Motions To Intervene, and Competing Applications

December 8, 2010.

On November 22, 2010, Pennamaquan Tidal Power, LLC filed an application for a preliminary permit, pursuant to section 4(f) of the Federal Power Act (FPA), proposing to study the feasibility of the Pennamaquan Tidal Power Plant Project to be located on the Pennamaquan River and Cobscook Bay, Washington County, Maine. The sole purpose of a preliminary permit, if issued, is to grant the permit holder priority to file a license application during the permit term. A preliminary permit does not authorize the permit holder to perform any land-disturbing activities or otherwise enter upon lands or waters owned by others without the owners' express permission.

The proposed project would consist of: (1) A 692-acre tidal area of the Pennamaquan River and Cobscook Bay; (2) two new impervious core, sand, and crushed rock embankments, one 689-feet-long and another 164-feet-long; (3) a new 505-foot-long concrete modular wall panel extending about 11 feet above mean sea level consisting of: (a) New concrete support columns; (b) a new boat lift; and (c) a new powerhouse with four reversible bulb generating units with a total capacity of 21.1 megawatts; and (4) a new 35 kilovolt, 2.5-mile-long transmission line. The project would produce an estimated average annual generation of about 66,400 megawatt-hours.

Applicant Contact: Andrew Landry, 45 Memorial Circle, PO Box 1058, Augusta, ME 04332, phone: (207) 791-3191, e-mail: alandry@preti.com.

FERC Contact: Tom Dean (202) 502-6041.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13884) in the docket number field to access the document. For assistance, contact FERC Online Support.

Kimberly D. Bose,
Secretary.

[FR Doc. 2010-31417 Filed 12-14-10; 8:45 am]

BILLING CODE 6717-01-P